CHEMICAL SAFETY AND HAZARD INVESTIGATION BOARD

Sunshine Act Meeting

In connection with its investigation into an explosion and fire that occurred at the Bayer CropScience facility in Institute, West Virginia, on August 28, 2008, the U.S. Chemical Safety Board (CSB) announces that it will hold a public meeting on January 20, 2011, in Institute, West Virginia, to present the findings from its investigation of the explosion that fatally injured two workers.

The meeting will begin at 6:30 p.m. at the West Virginia State University Wilson Building, Multipurpose Room, 103 University Union, Institute, WV, 25112. The meeting is free and open to the public. Pre-registration is not required, but to assure adequate seating, attendees are encouraged to pre-register by emailing their names and affiliations to publicmeeting@csb.gov by January 15th.

At the meeting CSB staff will present to the Board the results of their investigation into this incident. Key issues involved in the investigation concern process hazards analysis and pre-startup safety review; operating procedures, operator training, emergency planning and response. Following the presentation of the CSB's findings and safety recommendations, a panel of outside witnesses will be invited to speak on a number of issues related to the investigation findings and the board's recommendations. This will then be followed by a public comment period prior to a Board vote on the report.

Following the staff presentation, panel comments, and the conclusion of the public comment period, the Board will consider whether to approve the final report and recommendations. All staff presentations are preliminary and are intended solely to allow the Board to consider in a public forum the issues and factors involved in this case. No factual analyses, conclusions or findings presented by staff should be considered final. Only after the Board has considered the final staff presentation, listened to the witnesses and the public comments and approved the staff report will there be an approved final record of this incident.

Please notify CSB if a translator or interpreter is needed, at least 5 business days prior to the public meeting. For more information, please contact the Chemical Safety and Hazard Investigation Board at (202) 261-7600, or visit our Web site at: http://www.csb.gov.

Christopher W. Warner,
General Counsel.

[FR Doc. 2011-223 Filed 1-5-11; 4:15 pm]

BILLING CODE 6350-01-P